FEDERAL RESERVE SYSTEM

12 CFR Part 229

Availability of Funds and Collection of Checks

CFR Correction

In Title 12 of the Code of Federal Regulations, Parts 220 to 299, revised as of January 1, 2006, on page 576, in Appendix A to Part 229, under the Ninth Federal Reserve District, Helena Branch, the first entry in the second column, “2020”, is corrected to read “2920”.

[FR Doc. 07-55500 Filed 1-25-07; 8:45 am]

BILLING CODE 1505-01-D